DEPARTMENT OF HEALTH AND HUMAN SERVICES

Office of the Secretary

Findings of Scientific Misconduct

AGENCY: Office of the Secretary, HHS.

ACTION: Notice.

SUMMARY: Notice is hereby given that the Office of Research Integrity (ORI) has made a final finding of scientific misconduct in the following case:

Mr. Sherman Smith, University of California at San Francisco: Based on the report of an investigation conducted by the University of California at San Francisco (UCSF) and information obtained by ORI during its oversight review, the U.S. Public Health Service (PHS) finds that Mr. Smith, former research technician, Division of Occupational and Environmental Medicine at UCSF, engaged in scientific misconduct by intentionally and knowingly fabricating and falsifying patient interview data as the sole interviewer in the PHS-funded UCSF Asthma Disability Study (Asthma Study). The UCSF Asthma Study was funded by National Heart, Lung, and Blood Institute (NHLBI), National Institutes of Health (NIH), grants K04 HL03225, R01 HL56438, and R29 HL48959, and National Institute for Occupational Safety and Health (NIOSH), Centers for Disease Control (CDC), grant R01 OH03480.

Specifically, Mr. Smith intentionally falsified and fabricated the interviews of 107 patients in the Asthma Study. The falsification of the patient interviews was committed with an intent to deceive. This deception, in turn, had a material, negative impact on the Asthma Study in particular and on asthma research in general. The falsified and fabricated data were reported in ten publications, and fellow members of the Asthma Study Team had to spend over two years correcting the research data and were required to submit retractions or corrections for all ten publications produced by the study.

PHS has implemented the following administrative actions for the five (5) year period beginning October 9, 2001:

(1) Mr. Smith is prohibited from serving in any advisory capacity to PHS, including but not limited to service on any PHS advisory committee, board, and/or peer review committee, or as a consultant.

(2) Mr. Smith is debarred from eligibility for, or involvement in, nonprocurement transactions (e.g., grants and cooperative agreements) of the Federal government and from contracting or subcontracting with any Federal government agency as defined in 45 CFR part 76 (Debarment Regulations).

FOR FURTHER INFORMATION CONTACT: Director, Division of Research Investigations, Office of Research Integrity, 5515 Security Lane, Suite 700, Rockville, MD 20852, (301) 443-5330.

Chris B. Pascal,
Director, Office of Research Integrity.

[FR Doc. 01-27365 Filed 10-30-01; 8:45 am]

BILLING CODE 4150-31-P